DEPARTMENT OF THE INTERIOR

National Park Service

Draft Environmental Impact Statement for the Winter Use Plan, Yellowstone National Park

AGENCY: National Park Service, Interior.

ACTION: Notice of availability.

SUMMARY: Pursuant to the National Environmental Policy Act of 1969, the National Park Service (NPS) announces the availability of a Draft Environmental Impact Statement (DEIS) for a Winter Use Plan for Yellowstone National Park, located in Idaho, Montana and Wyoming.

DATES: The National Park Service will accept comments from the public for 60 days after the date the Environmental Protection Agency publishes their Notice of Availability. For information on meeting and webinar dates, see the SUPPLEMENTRY INFORMATION section below.

ADDRESSES: Information will be available for public review and comment online at http://parkplanning.nps.gov/YELL (click on the link to the Winter Use Plan), and in the office of Superintendent Dan Wenk, Yellowstone National Park, P.O. Box 168, Yellowstone National Park, Wyoming 82190.

If you wish to comment on the Draft Environmental Impact Statement, you may submit your comments by any one of several methods.

• Internet: We encourage you to comment via the Internet at http://parkplanning.nps.gov/YELL (click on the link to the Winter Use Plan).

• Mail: You may also comment by mail to Yellowstone National Park, Winter Use Draft EIS, P.O. Box 168, Yellowstone NP, WY 82190.

• Hand Delivery: Finally, you may hand deliver your comments to Management Assistant's Office, Headquarters Building, Mammoth Hot Springs, Yellowstone National Park, WY.

Comments will not be accepted by fax, e-mail, or in any other way than those specified above. Bulk comments in any format (hard copy or electronic) submitted on behalf of others will not be accepted.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Vicki Regula, P.O. Box 168, Yellowstone National Park, WY 82190, (307) 344-2019, yell_winter_use@nps.gov.

SUPPLEMENTARY INFORMATION: The National Park Service intends to hold public meetings as follows:

• Jackson, WY on June 1, 2011.

• Cody, WY on June 2, 2011.

• West Yellowstone, MT on June 7, 2011.

• Bozeman, MT. on June 8, 2011.

• Lakewood, CO on June 21, 2011.

• Washington, DC on June 23, 2011.

In addition, two webinars will be held during the comment period. The first will be on June 21, 2011 from Noon to 2:30 p.m. The second will be June 22, 2011 from 6:30 p.m. to 9 p.m. Details regarding the exact times and locations of these meetings, and how to participate in the webinars, will be announced on the NPS Planning, Environment, and Public Comment (PEPC) Web site, at http://parkplanning.nps.gov/YELL (click on the link to the Winter Use Plan), and through local media.

Seven alternatives were considered in the DEIS. Alternative 1 would not permit public over-snow vehicle (OSV) use in Yellowstone after the interim rule expires (after the winter 2010/2011), but would allow for approved non-motorized use to continue. Alternative 1 has been identified as the environmentally preferable alternative. Alternative 2 would manage OSV use at the same levels as the 2008 interim rule (318 snowmobiles and 78 snowcoaches per day). Alternative 3 would allow for snowmobile and snowcoach use levels to increase to the levels set forth in the 2004 plan (720 snowmobiles and 78 snowcoaches per day). Alternative 4 would allow for commercially guided wheeled vehicles, in addition to OSVs (100 commercially wheeled vehicles, 110 snowmobiles and 30 snowcoaches per day). Alternative 5 would initially allow for the same level of use as alternative 2 (318 snowmobiles and 78 snowcoaches per day), but would provide for a transition to snowcoaches only if user demand is present to support such a transition or at the discretion of the Superintendent. Upon complete transition, there would be zero snowmobiles and up to 120 snowcoaches per day. Alternative 6 would provide for use levels that vary each day, with a seasonal limit of up to 32,000 snowmobiles and 4,600 snowcoaches, and a daily limit of up to 540 snowmobiles and 78 snowcoaches. Up to 25 percent of snowmobile permits under alternative 6 would be for unguided or non-commercially guided use.

Alternative 7 is the agency preferred alternative and would provide a variety of use levels and experiences for visitors. Four different use levels for snowmobiles and snowcoaches would be implemented, the combination of which may vary by day. Snowmobile use would range from 110 to 330 vehicles per day and snowcoach use would range from 30 to 80 vehicles per day. The varying use levels would provide for high and low use days, allowing for a variety of motorized and non-motorized visitor experiences throughout the winter season. Commercial guide requirements would continue. All snowmobiles and snowcoaches would need to enter the park by 10:30 a.m. A requirement to limit nitrogen oxides (NOX) emissions would be added to the current Best Available Technology requirements for snowmobiles. By 2014-2015, all snowcoaches would have to employ model year 2010 engine and emission control systems, and all snowcoaches' sound would be limited to 73 decibels, similar to the current BAT requirements for snowmobiles. During the first winter of implementation, the provisions of the interim plan that was in effect for the past two winters would continue. Up to 318 best available technology, commercially guided snowmobiles and up to 78 commercially guided snowcoaches would be allowed to enter the park each day during the transition winter.

More information regarding Yellowstone in the winter, including educational materials and a detailed history of winter use in Yellowstone, is available at http://www.nps.gov/yell/planvisit/winteruse/index.htm.

Dated: May 5, 2011.
Peggy O'Dell,
Deputy Director, National Park Service.

[FR Doc. 2011-11408 Filed 5-6-11; 11:15 am]

BILLING CODE 4312-CT-P